DEPARTMENT OF THE INTERIOR

Geological Survey

[GX16GG009950000]

Announcement of National Earthquake Prediction Evaluation Council

AGENCY: U.S. Geological Survey, Department of the Interior.

ACTION: Notice of meeting.

SUMMARY: Pursuant to Public Law 106-503, the National Earthquake Prediction Evaluation Council (NEPEC) will hold its next meeting by phone. The Committee is comprised of members from academia and the Federal government. The Committee provides advice and recommendations to the Director of the USGS on earthquake predictions and related scientific research.

In this brief meeting by phone, the Council will receive updates on the status of pertinent activities of the Earthquake Hazards Program, and will deliver its recommendations on the testing of earthquake prediction hypotheses.

DATES: The meeting will be held from 12 Noon to 2:00 p.m. EDT on September 1, 2016.

FOR FURTHER INFORMATION CONTACT: Dr. Michael Blanpied, U.S. Geological Survey, MS 905, 12201 Sunrise Valley Drive, Reston, Virginia 20192, (703) 648-6696, mblanpied@usgs.gov.

SUPPLEMENTARY INFORMATION: Meetings of the National Earthquake Prediction Evaluation Council are open to the public. Those wishing to attend may contact Dr. Blanpied for further information. Those wishing to provide a brief statement to the Council may do so with prior arrangement.

William Leith,
Senior Science Advisor for Earthquake and Geologic Hazards.

[FR Doc. 2016-19804 Filed 8-18-16; 8:45 am]

BILLING CODE 4338-11-P